DEPARTMENT OF TRANSPORTATION

Federal Railroad Administration

[Docket No. FRA-2000-7257; Notice No. 73]

Railroad Safety Advisory Committee; Notice of Meeting Postponement

AGENCY: Federal Railroad Administration (FRA), Department of Transportation (DOT).

ACTION: Notice of Railroad Safety Advisory Committee (RSAC) Meeting Postponement.

SUMMARY: FRA recently announced the forty-eighth meeting of the RSAC, a Federal Advisory Committee that develops railroad safety regulations through a consensus process (77 FR 73734). This meeting has been postponed until further notice and will be rescheduled at a future date.

DATES: The RSAC meeting scheduled to commence at 9:30 a.m. on Wednesday, January 9, 2013, is hereby postponed and will be rescheduled at a future date.

ADDRESSES: To be rescheduled at a future date and location.

FOR FURTHER INFORMATION CONTACT: Larry Woolverton, RSAC Administrative Officer/Coordinator, FRA, 1200 New Jersey Avenue SE., Mailstop 25, Washington, DC 20590, (202) 493-6212; or Robert Lauby, Deputy Associate Administrator for Regulatory and Legislative Operations, FRA, 1200 New Jersey Avenue SE., Mailstop 25, Washington, DC 20590, (202) 493-6474.

SUPPLEMENTARY INFORMATION: The RSAC was established to provide advice and recommendations to FRA on railroad safety matters. The RSAC is composed of 54 voting representatives from 32 member organizations, representing various rail industry perspectives. In addition, there are non-voting advisory representatives from the agencies with railroad safety regulatory responsibility in Canada and Mexico, the National Transportation Safety Board, and the Federal Transit Administration. The diversity of the Committee ensures the requisite range of views and expertise necessary to discharge its responsibilities. See the RSAC Web site for details on prior RSAC activities and pending tasks at: http://rsac.fra.dot.gov/. Please refer to the notice published in the Federal Register on March 11, 1996 (61 FR 9740), for additional information about the RSAC.

Issued in Washington, DC, on December 31, 2012.
Robert C. Lauby,
Deputy Associate Administrator for Regulatory and Legislative Operations.

[FR Doc. 2012-31383 Filed 12-28-12; 8:45 am]

BILLING CODE 4910-06-P